DEPARTMENT OF COMMERCE

International Trade Administration

[Application No. 97-11A003]

Export Trade Certificate of Review

ACTION: Notice of Issuance of Application No. 97-11A003 of an Amended Export Trade Certificate to the Association for the Administration of Rice Quotas, Inc.

SUMMARY: The U.S. Department of Commerce issued an amended Export Trade Certificate of Review to the Association for the Administration of Rice Quotas, Inc., (“AARQ”) on December 16, 2011. The previous amendment was issued to AARQ on March 11, 2010 and published in the Federal Register on March 26, 2010 (75 FR 14567). This is the eleventh amendment to the Certificate. The Association for the Administration of Rice Quotas, Inc. (“AARQ”) original Certificate was issued on January 21, 1998 (63 FR 31738, June 10, 1998).

FOR FURTHER INFORMATION CONTACT: Joseph Flynn, Director, Office of Competition and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review.

The U.S. Department of Commerce, International Trade Administration, Office of Competition and Economic Analysis (“OCEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Amended Certificate

AARQ's Export Trade Certificate of Review has been amended to update the list of Members and to reflect changes in ownership, corporate structures, names and locations:

1. “American Rice, Inc., Houston, Texas (a subsidiary of SOS Corporation Alimentaria, SA)” was amended to read “American Rice, Inc., Houston, Texas (a subsidiary of Ebro Foods, S.A. (Spain))”.

2. “Associated Rice Marketing Cooperative, Durham, California” was amended to read “Associated Rice Marketing Cooperative (ARMCO), Richvale, California”.

3. “Busch Agricultural Resources, LLC, St. Louis, Missouri, and its subsidiary, Pacific International Rice Mills, LLC, Woodland, California” was amended to read “Bunge Milling, Saint Louis, Missouri (a subsidiary of Bunge North America, White Plains, New York), dba PIRMI (Pacific International Rice Mills), Woodland, California”.

4. “Gulf Rice Arkansas, LLC (a subsidiary of Ansera Marketing, Inc.), Houston, Texas” was deleted, as Gulf Rice Arkansas II, LLC, a successor to Gulf Rice Arkansas, LLC, is now a subsidiary of another member, TRC Trading Corporation (see below).

5. “Louis Dreyfus Corporation, Wilton, Connecticut” was amended to read “LD Commodities Rice Merchandising LLC, Wilton, Connecticut, and LD Commodities Interior Rice Merchandising LLC, Kansas City, Missouri (subsidiaries of Louis Dreyfus Commodities LLC, Wilton, Connecticut)”.

6. “Nidera, Inc., Wilton, Connecticut (a subsidiary of Nidera Handelscompagnie BV (Netherlands))” was amended to read “Nidera US LLC, Wilton, Connecticut (a subsidiary of Nidera Handelscompagnie BV (Netherlands))” .

7. “Noble Logistics USA Inc., Portland, Oregon” was corrected to read “Noble Logistic USA Inc., Portland, Oregon”.

8. “PS International, Ltd., Chapel Hill, North Carolina” was amended to read “PS International LLC dba PS International, Ltd., Chapel Hill, North Carolina (jointly owned by Seaboard Corporation, Kansas City, Missouri, and PS Trading Inc., Chapel Hill, North Carolina)”.

9. “Riviana Foods Inc., Houston, Texas (a subsidiary of Ebro Puleva, S.A. (Spain)” was amended to read “Riviana Foods Inc., Houston, Texas (a subsidiary of Ebro Foods, S.A. (Spain))”.

10. “TRC Trading Corporation, Roseville, California (a subsidiary of The Rice Company)” was amended to read “TRC Trading Corporation, Roseville, California (a subsidiary of TRC Group, Inc., Roseville, California) and its subsidiary, Gulf Rice Arkansas II, LLC, Houston, Texas”.

11. “Veetee Rice, Inc., Springfield, Virginia (a subsidiary of Veetee Investments (Bahamas))” was amended to read “Veetee Rice Inc., Great Neck, New York (a subsidiary of Veetee Investments Corporation (Bahamas))”.

The effective date of the amended certificate is December 16, 2011, the date on which AARQ's application to amend was deemed submitted. A copy of the amended certificate will be kept in the International Trade Administration's Freedom of Information Records Inspection Facility, Room 4001, U.S. Department of Commerce, 14th Street and Constitution Avenue NW., Washington, DC 20230.

Dated: March 22, 2012.
Joseph E. Flynn,
Director, Office of Competition and Economic Analysis.

[FR Doc. 2012-7458 Filed 3-27-12; 8:45 am]

BILLING CODE 3510-DR-P